MERIT SYSTEMS PROTECTION BOARD

Agency Information Collection Activities; Proposed Collection

AGENCY: Merit Systems Protection Board.

ACTION: Notice.

SUMMARY: In compliance with the Paperwork Reduction Act (44 U.S.C. 3501 et seq.), this notice announces that the Merit Systems Protection Board's request for a three year extension of approval of its optional appeal form, Optional Form 283 (Rev. 10/94) has been forwarded to the Office of Management and Budget (OMB) for review and comment. The appeal form is currently displayed in 5 CFR part 1201, appendix I, and on the MSPB Web Page at http://www.mspb.gov/foia/applform.pdf.

In this regard, we are soliciting comments on the public reporting burden. The reporting burden for the collection of information on this form is estimated to vary from 20 minutes to one hour per response, with an average of 30 minutes, including time for reviewing instructions, searching existing data sources, gathering and maintaining the data needed, and completing and reviewing the collection of information.

Estimated Annual Reporting Burden
5 CFR section | Annual number of respondents | Frequency per response | Total annual responses | Hours per response (average) | Total hours
1201 and 1209 | 9,000 | 1 | 9,000 | .5 | 4,500

Send comments regarding the burden estimate, or any other aspect of the information collection, including suggestions for reducing the burden, to the address shown below. Please refer to OMB Control No. 3124-0009 in any correspondence.

DATES: Comments must be received on or before (insert date 30 days from publication).

ADDRESSES: Copies of the appeal form may be obtained from the MSPB Web site at http://www.mspb.gov/foia/applform.pdf, any MSPB regional or field office, or from the Office of the Clerk, Merit Systems Protection Board, 1615 M Street, NW., Washington, DC 20419, by calling (202) 653-7200. Comments concerning the paperwork burden should also be addressed to Mr. Arlin Winefordner, Office of the Clerk, and to the Office of Information and Regulatory Affairs, Office of management and Budget, Attention: Desk Officer for MSPB, 725 17th Street NW., Washington, DC 20503.

Dated: September 12, 2000.
Robert E. Taylor,
Clerk of the Board.

[FR Doc. 00-23283 Filed 9-11-00; 8:45 am]

BILLING CODE 7400-01-M